SECURITIES AND EXCHANGE COMMISSION

[Release no. 34-63899]

Public Availability of the Securities and Exchange Commission FY 2010 Service Contract Inventory

AGENCY: Securities and Exchange Commission.

ACTION: Notice of public availability of FY 2010 Service Contract Inventory.

SUMMARY: The Securities and Exchange Commission is publishing this notice to advise the public of the availability of the FY 2010 Service Contract Inventory as required by Section 743 of Division C of the Consolidated Appropriations Act of 2010 (Pub. L. 111-117). This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The Securities and Exchange Commission has posted its inventory and a summary of the inventory on the Securities and Exchange Commission's Open Government homepage at the following link http://sec.gov/about/offices/oacq/secfy2010servicecontractinventories.pdf.

FOR FURTHER INFORMATION CONTACT: Questions regarding the service contract inventory should be directed to Judith Blake, Chief, Policy, Oversight, and Acquisition Programs Branch at 202-551-8071 or blakej@sec.gov.

February 14, 2011.
Elizabeth M. Murphy,
Secretary.

[FR Doc. 2011-3644 Filed 2-16-11; 8:45 am]

BILLING CODE 8011-01-P